DEPARTMENT OF HEALTH AND HUMAN SERVICES

Office of the Secretary

Federal Financial Participation in State Assistance Expenditures; Federal Matching Shares for Medicaid, the State Children's Health Insurance Program, and Aid to Needy Aged, Blind, or Disabled Persons for October 1, 2009 through September 30, 2010; Correction

AGENCY: Office of the Secretary (OS), DHHS.

ACTION: Notice; correction.

SUMMARY: This document corrects a technical error that appeared in the notice published in the November 26, 2008 Federal Register entitled “Federal Financial Participation in State Assistance Expenditures; Federal Matching Shares for Medicaid, the State Children's Health Insurance Program, and Aid to Needy Aged, Blind, or Disabled Persons for October 1, 2009 through September 30, 2010.”

FOR FURTHER INFORMATION CONTACT: Thomas Musco or Carrie Shelton, Office of Health Policy, Office of the Assistant Secretary for Planning and Evaluation, Room 447D—Hubert H. Humphrey Building, 200 Independence Avenue, SW., Washington, DC 20201, (202) 690-6870.

SUPPLEMENTARY INFORMATION:

I. Background

In FR Doc. E8-28233 of November 26, 2008 (73 FR 72051) there was a technical error in the second footnote to the table that appeared in the notice that is identified and corrected in the Correction of Errors section below.

II. Correction of Errors

In FR Doc. E8-28233 of November 26, 2008 (73 FR 72051), make the following correction:

On page 72052, at the bottom of the page, in the second footnote for the table entitled “Federal Medical Assistance Percentages and Enhanced Federal Medical Assistance Percentages, Effective October 1, 2009-September 30, 2010 (Fiscal year 2010)”, the second sentence, “For other purposes, including programs remaining in Title IV of the Act, the percentage for D.C. is 50.00.” is corrected to read “For other purposes, the percentage for D.C. is 50.00, unless otherwise specified by law.”

(Catalog of Federal Domestic Assistance Program Nos. 93.558: TANF Contingency Funds; 93.563: Child Support Enforcement; 93-596: Child Care Mandatory and Matching Funds of the Child Care and Development Fund; 93.658: Foster Care Title IV-E; 93.659: Adoption Assistance; 93.769: Ticket-to-Work and Work Incentives Improvement Act (TWWIIA) Demonstrations to Maintain Independence and Employment; 93.778: Medical Assistance Program; 93.767: State Children's Health Insurance Program)

Dated: January 5, 2009.
Ann C. Agnew,
Executive Secretary to the Department.

[FR Doc. E9-292 Filed 1-9-09; 8:45 am]

BILLING CODE 4150-29-P